DEPARTMENT OF DEFENSE

Department of the Navy

Notice of Intent To Grant Co-Exclusive Licenses

AGENCY: Department of the Navy, DoD.

ACTION: Notice.

SUMMARY: This notice is issued in accordance with 35 U.S.C. 209(e) and 37 CFR 404.7(a)(1)(i). The Department of the Navy hereby gives notice of its intent to grant to Cobalt Technologies, Inc., Mountain View, CA and to Green Biologics, Inc., Ashland, VA, revocable, nonassignable, co-exclusive licenses to practice worldwide, the Government-owned inventions described and claimed in U.S. Patent No. 8,350,107; issued on January 8, 2013: Selective isomerization and oligomerization of olefin feedstocks for the production of turbine and diesel fuels.//U. S. Patent No. 8,344,196; issued on January 1, 2013: Selective isomerization and oligomerization of olefin feedstocks for the production of turbine and diesel fuel.//U.S. Patent No. 8,242,319: Selective isomerization and oligomerization of olefin feedstocks for the production of turbine and diesel fuels.//Patent Application Serial No. 13/433737: Water and contaminants removal from butanol fermentation solutions and/or broths using a brine solution.//Patent Application Serial No. 13/426294: Process and apparatus for the selective dimerization of terpenes and alpha-olefin oligomers with a single-stage reactor and a single-stage fractionation system.//Patent Application Serial No. 13/426347: Process and apparatus for the selective dimerization of terpenes and alpha-olefin oligomers with a single-stage reactor and a single-stage fractionation system.//Patent Application Serial No. 13/426393: Process and apparatus for the selective dimerization of terpenes and alpha-olefin oligomers with a single-stage reactor and a single-stage fractionation system.//Patent Application Serial No. 13/426118: New homogeneous metallocene Ziegler-Natta catalysts for the oligomerization of olefins in aliphatic-hydrocarbon solvents.//Patent Application Serial No. 13/426192: New homogeneous metallocene Ziegler-Natta catalysts for the oligomerization of olefins in aliphatic-hydrocarbon solvents.//Patent Application Serial No. 12/511796: Diesel and jet fuels based on the oligomerization of 1-butene.//Patent Application Serial No. 12/769757: Turbine and diesel fuels and methods of making the same.//Patent Application Serial No. 13/434474: A Process for the dehydration of aqueous bio-derived terminal alcohols to terminal alkenes.//Patent Application Serial No. 13/434668: A Process for the dehydration of aqueous bio-derived terminal alcohols to terminal alkenes. The Navy intends to grant no more than two co-exclusive licenses to the above inventions. The prospective co-exclusive licenses will comply with the terms and conditions of 35 U.S.C. 209 and 37 CFR 404.7.

DATES: Anyone wishing to object to the grant of these co-exclusive licenses must file written objections along with supporting evidence, if any, not later than February 4, 2013.

ADDRESSES: Written objections are to be filed with the Office of Research and Technology Applications, Naval Air Warfare Center Weapons Division, Code 4L4000D, 1900 N. Knox Road, Stop 6312, China Lake, CA 93555-6106.

FOR FURTHER INFORMATION CONTACT: Michael D. Seltzer, Ph.D., Office of Research and Technology Applications, Naval Air Warfare Center Weapons Division, Code 4L4000D, 1900 N. Knox Road, Stop 6312, China Lake, CA 93555-6106, telephone 760-939-1074, email: michael.seltzer@navy.mil.

Authority: 35 U.S.C. 207, 37 CFR part 404.

Dated: January 11, 2013.
C. K. Chiappetta,
Lieutenant Commander, Office of the Judge Advocate General.

[FR Doc. 2013-00992 Filed 1-17-13; 8:45 am]

BILLING CODE P